DEPARTMENT OF LABOR

Employment and Training Administration

Investigations Regarding Eligibility To Apply for Worker Adjustment Assistance

Petitions have been filed with the Secretary of Labor under

Section 221(a) of the Trade Act of 1974 (“the Act”) and are identified in the Appendix to this notice. Upon receipt of these petitions, the Administrator of the Office of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing provided such request is filed in writing with the Administrator, Office of Trade Adjustment Assistance, at the address shown below, no later than November 5, 2020.

Interested persons are invited to submit written comments regarding the subject matter of the investigations to the Administrator, Office of Trade Adjustment Assistance, at the address shown below, not later than November 5, 2020.

The petitions filed in this case are available for inspection at the Office of the Administrator, Office of Trade Adjustment Assistance, Employment and Training Administration, U.S. Department of Labor, Room N-5428, 200 Constitution Avenue NW, Washington, DC 20210.

Signed at Washington, DC this 8th day of October 2020.
Hope D. Kinglock,
Certifying Officer, Office of Trade Adjustment Assistance.

Appendix

52 TAA Petitions Instituted Between 9/1/20 and 9/30/20
TA-W | Subject firm (petitioners) | Location | Date of institution | Date of petition
96167 | AeroTech Engineering, Inc. (State/One-Stop) | Wichita, KS | 09/01/20 | 08/31/20
96168 | Morgan Advanced Ceramics, Inc. (Workers) | Latrobe, PA | 09/01/20 | 08/31/20
96169 | Premier Processing (State/One-Stop) | Wichita, KS | 09/01/20 | 08/31/20
96170 | Streater LLC (State/One-Stop) | Albert Lea, MN | 09/01/20 | 08/31/20
96171 | Textron Aviation Inc. (State/One-Stop) | Independence, KS | 09/01/20 | 08/31/20
96172 | Wieland Copper Products, LLC (Company) | Pine Hall, NC | 09/01/20 | 08/31/20
96173 | Respironics Novametrix, LLC (State/One-Stop) | Wallingford, CT | 09/02/20 | 09/01/20
96174 | Schweitzer-Mauduit International, Inc. (Company) | Spotswood, NJ | 09/02/20 | 09/01/20
96175 | Exterran Energy Solutions (State/One-Stop) | Houston, TX | 09/03/20 | 09/02/20
96176 | Safran Cabin Sterling, Inc. (State/One-Stop) | Sterling, VA | 09/03/20 | 09/02/20
96177 | Supreme Steel (Union) | Portland, OR | 09/03/20 | 09/02/20
96178 | Clearwater Engineering, Inc. (State/One-Stop) | Derby, KS | 09/04/20 | 09/03/20
96179 | HP Inc., (State/One-Stop) | Vancouver, WA | 09/04/20 | 09/02/20
96180 | MAX Aerostructures (State/One-Stop) | Wichita, KS | 09/04/20 | 09/03/20
96181 | Applied Engineering & The Freeman Company (State/One-Stop) | Yankton, SD | 09/08/20 | 09/04/20
96182 | WABTEC—GE Transportation Division (State/One-Stop) | Erie, PA | 09/08/20 | 09/04/20
96183 | W & D North America (State/One-Stop) | Duncansville, PA | 09/09/20 | 09/09/20
96184 | Emblem Health (State/One-Stop) | Albany, NY | 09/11/20 | 09/10/20
96185 | Emblem Health (State/One-Stop) | Melville, NY | 09/11/20 | 09/10/20
96186 | Klean Karpet (Workers) | Atlanta, GA | 09/14/20 | 09/12/20
96187 | Korn Ferry (State/One-Stop) | Chicago, IL | 09/14/20 | 09/10/20
96188 | Nexans Energy USA Inc. (State/One-Stop) | Middletown & Chester (2 locations), NY | 09/14/20 | 09/11/20
96189 | LMI Incorporated (State/One-Stop) | St. Charles, MO | 09/15/20 | 09/14/20
96190 | Nordson Medical (State/One-Stop) | Marlborough, MA | 09/15/20 | 09/03/20
96191 | Roche Operations Ltd (Company) | Ponce, PR | 09/15/20 | 09/14/20
96192 | WS Packaging—MCC Multi Color Corporation (State/One-Stop) | Franklin, PA | 09/15/20 | 09/14/20
96193 | Bank of New York Mellon (BNYMellon) (State/One-Stop) | Pittsburgh, PA | 09/16/20 | 09/04/20
96194 | Carl Zeiss Meditec Inc. (State/One-Stop) | Dublin, CA | 09/16/20 | 09/15/20
96195 | Siemens Gamesa (State/One-Stop) | Fort Madison, IA | 09/16/20 | 09/15/20
96196 | Cameron International Corporation (State/One-Stop) | Little Rock, AR | 09/17/20 | 09/16/20
96197 | Creganna Medical (State/One-Stop) | Tualatin, OR | 09/18/20 | 09/17/20
96198 | The LYCRA Company (Union) | Waynesboro, VA | 09/18/20 | 09/17/20
96300 | Collins Aerospace (State/One-Stop) | Windsor Locks, CT | 09/22/20 | 09/21/20
96301 | Advanced Welding Technologies (State/One-Stop) | Erie, PA | 09/23/20 | 09/22/20
96302 | Lee Enterprises (State/One-Stop) | Davenport, IA | 09/23/20 | 09/23/20
96303 | WABTEC (GE Transportation Grove City) (State/One-Stop) | Grove City, PA | 09/23/20 | 09/22/20
96304 | Arcosa Wind Towers, Inc. (State/One-Stop) | Clinton, IL | 09/24/20 | 09/23/20
96305 | Foveon Incorporated (State/One-Stop) | San Jose, CA | 09/24/20 | 09/23/20
96306 | ltron Inc. (State/One-Stop) | Liberty Lake, WA | 09/24/20 | 09/18/20
96307 | Acushnet Company (State/One-Stop) | Fairhaven, MA | 09/25/20 | 09/23/20
96308 | Albers Finishing and Solutions (State/One-Stop) | Cheney, KS | 09/25/20 | 09/24/20
96309 | Howmet Aerospace (State/One-Stop) | Laporte, IN | 09/25/20 | 09/25/20
96310 | LMI Wichita (State/One-Stop) | Wichita, KS | 09/25/20 | 09/24/20
96311 | Shop Vac Corporation (State/One-Stop) | Williamsport, PA | 09/25/20 | 09/24/20
96401 | Eaton (Bussmann Division) (State/One-Stop) | Ellisville, MO | 09/28/20 | 09/25/20
96402 | JSW Steel USA (State/One-Stop) | Baytown, TX | 09/28/20 | 09/25/20
96403 | Kiswire Pine Bluff, Inc. (State/One-Stop) | Pine Bluff, AR | 09/28/20 | 09/25/20
96404 | Nationwide Insurance (State/One-Stop) | Des Moines, IA | 09/28/20 | 09/25/20
96405 | NWI Wichita LLC (State/One-Stop) | Wichita, KS | 09/28/20 | 09/25/20
96406 | GRI Texas Towers, Inc. (State/One-Stop) | Amarillo, TX | 09/29/20 | 09/28/20
96500 | Direct TV-AT&T-VRIO (State Workforce Office) | El Segundo, CA | 09/30/20 | 09/29/20
96501 | Joe Benbasset Inc. (Company Official) | New York, NY | 09/30/20 | 09/23/20

[FR Doc. 2020-23619 Filed 10-23-20; 8:45 am]

BILLING CODE P